DEPARTMENT OF AGRICULTURE

Submission for OMB Review; Comment Request

December 2, 2010.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Blood and Tissue Collection at Slaughtering Establishments.

OMB Control Number: 0579-0212.

Summary of Collection: The Animal Health Protection Act (AHPA) of 2002 is the primary Federal law governing the protection of animal health. The law gives the Secretary of Agriculture broad authority to detect, control, or eradicate pest or diseases of livestock or poultry. The AHPA is contained in Title X, Subtitle E, Sections 10401-18 of Public Law 107-171, May 13, 2002, the Farm Security and Rural Investment Act of 2002. Veterinary Services, a program within USDA's Animal and Plant Health Inspection Service (APHIS), administers regulations governing the interstate movement of animals to prevent the dissemination of animal disease within the United States. These regulations are contained in title 9 CFR, subchapter C, Interstate Transportation of Animals (including poultry) and Animal Products, part 71. The regulations also address animal testing for disease surveillance. APHIS will collect information using VS form 10-4 and 10-4A, Specimen Submission Form and Supplemental Sheet and VS form 10-5, Facility Inspection Report.

Need and Use of the Information: APHIS will collect information to identify specimens (blood and tissue) submitted for laboratory analysis and to identify the individual animal from which the specimen was taken as well as the animal's herd or flock; the type of specimen submitted, and the purpose for submitting the specimen. Without the information contained on the form, personnel at the National Veterinary Services Laboratories or other Federal laboratories would have no way of identifying or processing the specimens being sent to them for analysis.

Description of Respondents: Business or other for-profit.

Number of Respondents: 66.

Frequency of Responses: Reporting: On occasion.

Total Burden Hours: 2,691.

Animal and Plant Health Inspection Service

Title: Phytophthora Ramorum; Quarantine and Regulations.

OMB Control Number: 0579-0310.

Summary of Collection: Under the Plant Protection Act (7 U.S.C. 7701 et seq.), the Secretary of Agriculture, either independently or in cooperation with the States, is authorized to carry out operations or measures to detect, eradicate, suppress, control, prevent, or retard the spread of plant pest new to the United States or not widely distributed throughout the United States. Under “Subpart—Phytophthora Ramorum” (7 CFR 301.92 through 301.92-12, referred to as the regulation), USDA's Animal and Plant Health Inspection Service (APHIS) restricts the interstate movement of certain regulated and restricted articles from quarantined areas in California and Oregon to prevent the artificial spread of Phytophthora ramorum, the pathogen that causes the plant disease commonly known as sudden oak death, ramorum left blight, and ramorum dieback.

Need and Use of the Information: APHIS will collect information through a compliance agreement to establish restrictions on the interstate movement of nursery stock from nurseries in non-quarantined counties in California, Oregon, and Washington. If California, Oregon, and Washington State did not comply with provisions by signing a compliance agreement, P. ramorum would have the potential to spread to eastern forests adversely impacting the ecosystem balances, foreign/domestic nursery stocks, and lumber markets.

Description of Respondents: Business or other for-profit; Farms.

Number of Respondents: 1,425.

Frequency of Responses: Recordkeeping; Reporting: On occasion.

Total Burden Hours: 2,263.

Ruth Brown,
Departmental Information Collection Clearance Officer.

[FR Doc. 2010-30642 Filed 12-6-10; 8:45 am]

BILLING CODE 3410-34-P